DEPARTMENT OF COMMERCE

International Trade Administration

[A-533-919, A-803-001, A-201-859, A-469-826]

Mattresses From India, Kosovo, Mexico, and Spain: Antidumping Duty Orders

AGENCY: Enforcement and Compliance, International Trade Administration, Department of Commerce.

SUMMARY: Based on affirmative final determinations by the U.S. Department of Commerce (Commerce) and the U.S. International Trade Commission (ITC), Commerce is issuing antidumping duty orders on mattresses from India, Kosovo, Mexico, and Spain.

DATES: Applicable September 10, 2024.

FOR FURTHER INFORMATION CONTACT: Paul Senoyuit (India) at (202) 482-6106, Sean Carey (Kosovo) at (202) 482-3964, Benjamin Blythe (Mexico) at (202) 482-3457, and Joy Zhang (Spain) at (202) 482-1168, AD/CVD Operations, Offices II, VII, IV, and III, respectively, Enforcement and Compliance, International Trade Administration, U.S. Department of Commerce, 1401 Constitution Avenue NW, Washington, DC 20230.

SUPPLEMENTARY INFORMATION:

Background

On July 22, 2024, Commerce published its affirmative final determinations in the less-than-fair-value (LTFV) investigations of mattresses from India, Kosovo, Mexico, and Spain in accordance with sections 735(d) and 777(i) of the Tariff Act of 1930, as amended (the Act).¹ On August 28, 2024, the ITC notified Commerce of its final determinations, pursuant to section 735(d) of the Act, that an industry in the United States is materially injured within the meaning of section 735(b)(1)(A)(i) of the Act by reason of LTFV imports of mattresses from India, Kosovo, Mexico, and Spain.²

¹ See Mattresses from India: Final Affirmative Determination of Sales at Less Than Fair Value, 89 FR 59047 (July 22, 2024) (India Final Determination); see also Mattresses From Kosovo: Final Affirmative Determination of Sales at Less-Than-Fair Value, 89 FR 59043 (July 22, 2024) (Kosovo Final Determination); Mattresses From Mexico: Final Affirmative Determination of Sales at Less-Than-Fair Value, 89 FR 59062 (July 22, 2024) (Mexico Final Determination); Mattresses from Mexico: Final Affirmative Determination of Sales at Less-Than-Fair Value; Correction, 89 FR 64877 (August 8, 2024); and Mattresses From Spain: Final Affirmative Determination of Sales at Less Than Fair Value, 89 FR 59059 (July 22, 2024) (Spain Final Determination) (collectively, Final Determinations).

² See ITC's Letter, Investigation No. 731-TA-1632, 1634, 1635, and 1639 (Final), dated August 28, 2024.

Scope of the Orders

The products covered by these orders are mattresses from India, Kosovo, Mexico, and Spain. For a complete description of the scope of these orders, see the appendix to this notice.

Antidumping Duty Orders

Based on the above-referenced affirmative final determinations, in accordance with section 735(c)(2) and 736 of the Act, Commerce is issuing these AD orders. Because the ITC determined that imports of mattresses from India, Kosovo, Mexico and Spain are materially injuring a U.S. industry, unliquidated entries of such merchandise entered or withdrawn from warehouse for consumption, are subject to the assessment of antidumping duties.

Therefore, in accordance with section 736(a)(1) of the Act, Commerce will direct U.S. Customs and Border Protection (CBP) to assess, upon further instruction by Commerce, antidumping duty deposits equal to the amount by which the normal value of the merchandise exceeds the export price (or constructed export price) of the merchandise, for all relevant entries of mattresses from India, Kosovo, Mexico, and Spain. With the exception of entries occurring after the expiration of the provisional measures period and before publication of the ITC's final affirmative injury determinations, as further described below, antidumping duties will be assessed on unliquidated entries of mattresses from India, Kosovo, Mexico, and Spain, entered, or withdrawn from warehouse, for consumption, on or after March 1, 2024, the date of publication of the Preliminary Determinations.³ Because Commerce made final affirmative determinations of sales at LTFV, Commerce directed CBP to continue suspension of liquidation of mattresses from India, Kosovo, Mexico, and Spain entered or withdrawn from warehouse for consumption, on or after July 22, 2024, the date of publication of the Final Determinations.⁴

³ See Mattresses from India: Preliminary Affirmative Determination of Sales at Less Than Fair Value, Postponement of Final Determination, and Extension of Provisional Measures, 89 FR 15140 (March 1, 2024); see also Mattresses from Kosovo: Preliminary Affirmative Determination of Sales at Less Than Fair Value, Postponement of Final Determination, and Extension of Provisional Measures, 89 FR 15132 (March 1, 2024); Mattresses from Mexico: Preliminary Affirmative Determination of Sales at Less Than Fair Value, 89 FR 15152 (March 1, 2024); and Mattresses from Spain: Preliminary Affirmative Determination of Sales at Less Than Fair Value, Postponement of Final Determination, and Extension of Provisional Measures, 89 FR 15126 (March 1, 2024) (collectively, Preliminary Determinations).

⁴ See India Final Determination; see also Kosovo Final Determination; Mexico Final Determination; and Spain Final Determination.

Continuation of Suspension of Liquidation and Cash Deposits

Except as noted in the “Provisional Measures” section of this notice, in accordance with section 736 of the Act, Commerce will instruct CBP to continue to suspend liquidation on all relevant entries of mattresses from India, Kosovo, Mexico, and Spain effective the date of the publication of the ITC Final Determination. These instructions suspending liquidation will remain in effect until further notice.

Further, Commerce intends to instruct CBP to require cash deposits equal to the estimated weighted-average dumping margins indicated in the tables below. Accordingly, effective the date of publication in the Federal Register of the notice of the ITC's final affirmative injury determinations, CBP will suspend the entries of liquidation of entries of subject merchandise and require, at the same time as importers would normally deposit estimated duties on subject merchandise, a cash deposit equal to the rates listed in the table below. The relevant all-others rate for each applicable country applies to all producers or exporters not specifically listed, as appropriate.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of mattresses from India, Kosovo, Mexico, and Spain, Commerce extended the four-month period to six months in each of these investigations. Commerce published the Preliminary Determinations on March 1, 2024.⁵

⁵ Id.

The extended provisional measures period, beginning on the date of publication of the Preliminary Determinations, ended on August 27, 2024. Therefore, in accordance with section 733(d) of the Act, Commerce intends to instruct CBP to terminate the suspension of liquidation and to liquidate, without regard to antidumping duties, unliquidated entries of mattresses from India, Kosovo, Mexico, and Spain entered or withdrawn from warehouse, for consumption after August 27, 2024, the final day on which the provisional measures were in effect, through the day preceding the date of publication of the ITC's final determinations. Suspension of liquidation and the collection of cash deposits will resume on the date of publication of the ITC's final determinations in the Federal Register.

Estimated Weighted-Average Dumping Margins

The estimated weighted-average dumping margins are as published in Commerce's Final Determinations are as follows:

India
Exporter/producer | Weighted-average dumping margin (percent)
International Comfort Technologies Private Limited; Sheela Foam Limited | * 42.76
Raj Majal Fabrics | * 42.76
Varahamurti Flexirub Industries Private Limited; Amore International, Durfi Retail Private Limited; Springfit Marketing INC | 13.35
All Others | 13.35
* Rate based on facts available with adverse inferences.

Kosovo
Exporter/producer | Weighted-average dumping margin (percent)
Ventius International LLC | 63.66
Nisco Thailand Co., Ltd | * 344.70
All Others | 63.66
* Rate based on facts available with adverse inferences.

Mexico
Exporter/producer | Weighted-average dumping margin (percent)
Ureblock S.A. de C.V./Espumas de Oriente S.A. de C.V | 37.59
GAIM Regiomontana S.A. de C.V | * 61.97
Colchones Wendy S.A. de C.V | * 61.97
All Others | 37.59
* Rate based on facts available with adverse inferences.

Spain
Exporter/producer | Weighted-average dumping margin (percent)
Healthcare Foam, S.L. Unipersonal/Comotex Sistemas Del Descanso, S.L. Unipersonal | 4.61
Interplasp Fabrica de Espuma de Poliuretano | * 280.28
All Others | 4.61
* Rate based on facts available with adverse inferences.

Establishment of the Annual Inquiry Service Lists

On September 20, 2021, Commerce published the final rule titled “Regulations to Improve Administration and Enforcement of Antidumping and Countervailing Duty Laws” in the Federal Register.⁶ On September 27, 2021, Commerce also published the notice titled “Scope Ruling Application; Annual Inquiry Service List; and Informational Sessions” in the Federal Register.⁷ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.⁸

⁶ See Regulations to Improve Administration and Enforcement of Antidumping and Countervailing Duty Laws, 86 FR 52300 (September 20, 2021) (Final Rule).

⁷ See Scope Ruling Application; Annual Inquiry Service List; and Informational Sessions, 86 FR 53205 (September 27, 2021) (Procedural Guidance).

⁸ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ⁹

⁹ This segment will be combined with the ACCESS Segment Specific Information (SSI) field, which will display the month in which the notice of the order or suspended investigation was published in the Federal Register, also known as the anniversary month. For example, for an order under case number A-000-000 that published in the Federal Register in January, the relevant segment and SSI combination will appear in ACCESS as “AISL—January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁰ the new annual inquiry service list will be in place until the following year, when the Opportunity Notice for the anniversary month of the order is published.

¹⁰ See Procedural Guidance, 86 FR at 53206.

Commerce may update an annual inquiry service list at any time as needed based on interested parties' amendments to their entries of appearance to remove or otherwise modify their list of members and representatives, or to update contact information. Changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹¹ Accordingly, as stated above, the petitioners and foreign governments should submit their initial entry of appearance after publication of this notice in order to appear in the first annual inquiry service list. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹¹ See Final Rule, 86 FR at 52335.

Notification to Interested Parties

This notice constitutes the antidumping duty orders with respect to mattresses from India, Kosovo, Mexico, and Spain pursuant to section 736(a) of the Act and 19 CFR 351.211(b). Interested parties can find a list of antidumping duty orders currently in effect at https://www.trade.gov/data-visualization/adcvd-proceedings.

Dated: September 4, 2024.
Ryan Majerus,
Deputy Assistant Secretary for Policy and Negotiations, performing the non-exclusive functions and duties of the Assistant Secretary for Enforcement and Compliance.

Appendix

Scope of the Orders

The products covered by these orders are all types of youth and adult mattresses. The term “mattress” denotes an assembly of materials that at a minimum includes a “core,” which provides the main support system of the mattress, and may consist of innersprings, foam, other resilient filling, or a combination of these materials. Mattresses also may contain: (1) “upholstery,” the material between the core and the top panel of the ticking on a single-sided mattress, or between the core and the top and bottom panel of the ticking on a double-sided mattress; and/or (2) “ticking,” the outermost layer of fabric or other material (e.g., vinyl) that encloses the core and any upholstery, also known as a cover.

The scope of these orders is restricted to only “adult mattresses” and “youth mattresses.” “Adult mattresses” are frequently described as “twin,” “extra-long twin,” “full,” “queen,” “king,” or “California king” mattresses. “Youth mattresses” are typically described as “crib,” “toddler,” or “youth” mattresses. All adult and youth mattresses are included regardless of size and size description or how they are described (e.g., frameless futon mattress and tri-fold mattress).

The scope encompasses all types of “innerspring mattresses,” “non-innerspring mattresses,” and “hybrid mattresses.” “Innerspring mattresses” contain innersprings, a series of metal springs joined together in sizes that correspond to the dimensions of mattresses. Mattresses that contain innersprings are referred to as “innerspring mattresses” or “hybrid mattresses.” “Hybrid mattresses” contain two or more support systems as the core, such as layers of both memory foam and innerspring units.

“Non-innerspring mattresses” are those that do not contain any innerspring units. They are generally produced from foams (e.g., polyurethane, memory (viscoelastic), latex foam, gel infused viscoelastic (gel foam), thermobonded polyester, polyethylene) or other resilient filling.

Mattresses covered by the scope of these orders may be imported independently, as part of furniture or furniture mechanisms (e.g., convertible sofa bed mattresses, sofa bed mattresses imported with sofa bed mechanisms, corner group mattresses, day-bed mattresses, roll-away bed mattresses, high risers, trundle bed mattresses, crib mattresses), or as part of a set (in combination with a “mattress foundation”). “Mattress foundations” are any base or support for a mattress. Mattress foundations are commonly referred to as “foundations,” “boxsprings,” “platforms,” and/or “bases.” Bases can be static, foldable, or adjustable. Only the mattress is covered by the scope if imported as part of furniture, with furniture mechanisms, or as part of a set, in combination with a mattress foundation.

Excluded from the scope of these orders are “futon” mattresses. A “futon” is a bi-fold frame made of wood, metal, or plastic material, or any combination thereof, that functions as both seating furniture (such as a couch, love seat, or sofa) and a bed. A “futon mattress” is a tufted mattress, where the top covering is secured to the bottom with thread that goes completely through the mattress from the top through to the bottom, and it does not contain innersprings or foam. A futon mattress is both the bed and seating surface for the futon.

Also excluded from the scope are airbeds (including inflatable mattresses) and waterbeds, which consist of air- or liquid-filled bladders as the core or main support system of the mattress.

Also excluded is certain multifunctional furniture that is convertible from seating to sleeping, regardless of filler material or components, where such filler material or components are upholstered, integrated into the design and construction of, and inseparable from, the furniture framing, and the outermost layer of the multifunctional furniture converts into the sleeping surface. Such furniture may, and without limitation, be commonly referred to as “convertible sofas,” “sofabeds,” “sofa chaise sleepers,” “futons,” “ottoman sleepers,” or a like description.

Also excluded from the scope of these orders are any products covered by the existing antidumping duty orders on uncovered innerspring units from the People's Republic of China, South Africa, and the Socialist Republic of Vietnam. See Uncovered Innerspring Units from the People's Republic of China, South Africa, and Socialist Republic of Vietnam: Continuation of Antidumping Duty Orders, 84 FR 55285 (October 16, 2019).

Also excluded from the scope of these orders are bassinet pads with a nominal length of less than 39 inches, a nominal width of less than 25 inches, and a nominal depth of less than 2 inches.

Additionally, also excluded from the scope of these orders are “mattress toppers.” A “mattress topper” is a removable bedding accessory that supplements a mattress by providing an additional layer that is placed on top of a mattress. Excluded mattress toppers have a height of four inches or less.

Also excluded from the scope are the following hospital and patient care setting surfaces. Products that fall within the below categories and meet all of the exclusion factors in the respective category qualify for such exclusion, regardless of whether they may be referenced as a mattress.

Air Surfaces with all of the following characteristics: with the foot end comprised of either die-cut construction foam or air bladders to allow extension and retraction of the surface; enclosed in a fluid-resistant polyurethane-coated ticking with a zipper; with welded seams on the ticking, which are two or more layers of coated material thermally fused together with a permanent bond; with the core including air bladders, with or without foam inside; with a unique device identifier label for medical devices issued by an FDA-accredited agency and listed in the FDA administered Global Unique Device Identification Database.

Stretcher Surfaces with all of the following characteristics: with a nominal thickness of 5 inches or less; with the foam core width tapered at one end; enclosed in a fluid-resistant polyurethane-coated ticking with a zipper; with welded seams on the ticking, which are two or more layers of coated material thermally fused together with a permanent bond; with the exterior of the ticking containing a welded flap to cover the ticking zipper; with loop velcro attached to the ticking to allow for the stretcher surface to be firmly affixed to the stretcher; with a unique device identifier label for medical devices issued by an FDA-accredited agency and listed in the FDA administered Global Unique Device Identification Database.

Birthing Bed Surfaces with all of the following characteristics: with a nominal thickness of 5 inches or less; with a foam core in two pieces that have either a V-shaped cutout or U-Shaped cutout; enclosed in a fluid-resistant polyurethane-coated ticking with a zipper; with welded seams on the ticking, which are two or more layers of coated material thermally fused together with a permanent bond; with attachment fasteners extending from the bottom of the surface comprised of snaps or plastic hook(s); with a unique device identifier label for medical devices issued by an FDA-accredited agency and listed in the FDA-administered Global Unique Device Identification Database.

Foam Surfaces with all the following characteristics: with a nominal thickness of 6.5 inches or less; with a foam core that has articulation lines cut into the foam and/or die-cut construction in a portion of the foam to allow movement of the surface; enclosed in a fluid-resistant polyurethane-coated ticking with a zipper; with the ticking made of material meeting ASTM F1671B-07 requirements for porosity and ISO 10993 requirements for biocompatibility; with welded seams on the ticking, which are two or more layers of coated material thermally fused together with a permanent bond; with brackets or attachment knobs embedded in the surface core to allow the surface to be firmly affixed to the hospital bed frame; with a unique device identifier label for medical devices issued by an FDA-accredited agency and listed in the FDA-administered Global Unique Device Identification Database, where the label includes the manufacturer's name and address as well as the product's name, date of manufacture, serial number, and Global Trade Identification Number (GTIN).

The products subject to these orders are currently classifiable under Harmonized Tariff Schedule of the United States (HTSUS) subheadings: 9404.21.0010, 9404.21.0013, 9404.21.0095, 9404.29.1005, 9404.29.1013, 9404.29.1095, 9404.29.9085, 9404.29.9087, and 9404.29.9095. Products subject to this investigation may also enter under HTSUS subheadings: 9401.41.0000, 9401.49.0000, and 9401.99.9081. Although the HTSUS subheadings are provided for convenience and customs purposes, the written description of the merchandise subject to these orders is dispositive.

[FR Doc. 2024-20346 Filed 9-9-24; 8:45 am]

BILLING CODE 3510-DS-P